NUCLEAR REGULATORY COMMISSION

[NRC-2014-0085]

Information on Licensing Applications for Fracture Toughness Requirements for Ferritic Reactor Coolant Pressure Boundary Components

AGENCY: Nuclear Regulatory Commission.

ACTION: Regulatory issue summary; issuance.

SUMMARY: The U.S. Nuclear Regulatory Commission (NRC) is issuing Regulatory Issue Summary (RIS) 2014-11, “Information on Licensing Applications for Fracture Toughness Requirements for Ferritic Reactor Coolant Pressure Boundary Components.” This RIS provides guidance to applicants for, and holders of, nuclear power reactor licenses, construction permits, standard design approvals, and manufacturing licenses, and applicants for standard design certifications, on the scope and detail of information that should be provided in licensing applications regarding reactor vessel fracture toughness and associated pressure-temperature limits. The RIS explains that these entities should ensure that pressure-temperature limits developed in accordance with NRC requirements sufficiently address all ferritic materials of the reactor vessel, including the impact of structural discontinuities and neutron fluence accumulation.

DATES: The RIS is available as of November 10, 2014.

ADDRESSES: Please refer to Docket ID NRC-2014-0085 when contacting the NRC about the availability of information regarding this document. You may obtain publicly-available information related to this document using any of the following methods:

• Federal Rulemaking Web site: Go to http://www.regulations.gov and search for Docket ID NRC-2014-0085. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

• This RIS is also available on the NRC's public Web site at http://www.nrc.gov/reading-rm/doc-collections/gen-comm/reg-issues/ (select “2014” and then select “RIS 14-11”).

FOR FURTHER INFORMATION CONTACT: Alexandra Popova, telephone: 301-415-2876, email: Alexandra.Popova@nrc.gov; or Tanya Mensah, telephone: 301-415-3610, email: Tanya.Mensah@nrc.gov, both are staff of the Office of Nuclear Reactor Regulation, U.S. Nuclear Regulatory Commission, Washington, DC 20555-0001.

SUPPLEMENTARY INFORMATION:

The NRC published a notice of opportunity for public comment on this RIS in the Federal Register on April 17, 2014 (79 FR 21812). The agency received comments from two commenters. The staff considered all comments, which resulted in minor changes to the RIS. The evaluation of these comments and the resulting changes to the RIS are discussed in a publicly available memorandum which is in ADAMS under Accession No. ML14192B402.

Dated at Rockville, Maryland, this 4th day of November, 2014.
For the Nuclear Regulatory Commission.
Sheldon D. Stuchell,
Chief, Generic Communications Branch, Division of Policy and Rulemaking, Office of Nuclear Reactor Regulation.

[FR Doc. 2014-26581 Filed 11-7-14; 8:45 am]

BILLING CODE 7590-01-P